DEPARTMENT OF TRANSPORTATION

Federal Railroad Administration

[Docket Number FRA-2010-0100]

Petition for Waiver of Compliance

Under part 211 of title 49 Code of Federal Regulations (CFR), this document provides the public notice that on December 10, 2020, Brownsville & Rio Grande International Railroad (BRG) petitioned the Federal Railroad Administration (FRA) for a modification to its waiver of compliance from certain provisions of the Federal railroad safety regulations contained at 49 CFR parts 232, Brake System Safety Standards for Freight and Other Non-Passenger Trains and Equipment; End-Of-Train Devices, and 215, Railroad Freight Car Safety Standards. FRA assigned the petition Docket Number FRA-2010-0100.

Specifically, BRG seeks a modification to its waiver of compliance with certain requirements of 49 CFR part 215, and 49 CFR 232.205, Class I Brake Test—Initial Terminal Inspection. Presently, BRG's relief permits trains transferred by Union Pacific Railroad Company (UP) from the US/Mexico border interchange with the Kansas City Southern de Mexico Railway (KCSM) at Brownsville, Texas, to move from BRG's interchange point with UP at milepost (MP) 4.48 to the BRG inspection point between MPs 8.0 and 9.0, where required FRA inspections are performed (see Docket Number FRA-2007-28340). Occasionally, trains destined for interchange to BRG are delayed at UP's Olmito Yard by additional Federal agency inspection activities. BRG is permitted to pick up trains at Olmito Yard (in lieu of the interchange point at MP 4.48) on those occasions and perform the required FRA inspections between MPs 8.0 and 9.0 in accordance with its present relief.

In its petition, BRG requests that the track covered under this waiver be extended an additional three miles through the end of the Palo Alto Subdivision, which terminates at MP 0.0, and onto BRG's South Lead, where the required inspections will be completed between MPs 2.0 and 3.0, as were previously completed between MPs 8.0 and 9.0 on the Palo Alto Subdivision. BRG states that it will adhere to the same conditions outlined in FRA's decision letter dated December 18, 2017, at the proposed new inspection point.

In support of its petition, BRG states this waiver would help expedite any delays caused by required port of entry inspections and other unforeseen delays. The modification would provide capacity to process two inbound trains back-to-back, allowing for more efficient use of bridge windows. Trains from the KCSM Matamoros Yard to the Port of Brownsville (Port) travel less than 25 miles. BRG further states that its request will facilitate international trade between the United States and Mexico by allowing inbound trains to go directly to the Port. The Port is a more secure location to inspect the incoming trains, and operational efficiencies are gained by moving the cars directly into the serving yard. BRG states that the change will support the ongoing extensive growth in the Rio Grande Valley.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by March 15, 2021 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2021-01947 Filed 1-28-21; 8:45 am]

BILLING CODE 4910-06-P